DEPARTMENT OF ENERGY

Federal Energy Regulatory Commission

[Docket Nos. RP00-463-005 and RP00-600-003]

Williston Basin Interstate Pipeline Company; Notice of Tariff Filing

April 1, 2003.

Take notice that on March 27, 2003, Williston Basin Interstate Pipeline Company (Williston Basin), tendered for filing as part of its FERC Gas Tariff, Second Revised Volume No. 1, Substitute Fifth Revised Sheet No. 256, with an effective date of July 1, 2002.

Williston Basin states that Fifth Revised Sheet No. 256 filed on June 28, 2002, in Docket No. RP00-463-000, et al. was incorrect as it did not reflect approved tariff language. Williston Basin states that the language included in this substitute sheet correctly reflects the previously approved tariff language along with the language proposed in its June 28, 2002 filing.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 8, 2003.

Magalie R. Salas,
Secretary.

[FR Doc. 03-8461 Filed 4-7-03; 8:45 am]

BILLING CODE 6717-01-P